DEPARTMENT OF HEALTH AND HUMAN SERVICES

Centers for Disease Control and Prevention

National Center for Injury Prevention and Control Initial Review Group, (NCIPC IRG)

In accordance with section 10(a)(2) of the Federal Advisory Committee Act (Pub. L. 92-463), the Centers for Disease Control and Prevention (CDC) announce the following teleconference meeting:

Time and Date: 12:30 p.m.-12:45 p.m., June 2, 2009 (Open).

12:45 p.m.-7 p.m., June 2, 2009 (Closed).

Place: Teleconference, Toll Free: 877-468-4185, Participant Pass Code: 3772769.

Status: Portions of the meeting will be closed to the public in accordance with provisions set forth in section 552b(c)(4) and (6), Title 5, U.S.C., and the Determination of the Director, Management Analysis and Services Office, CDC, pursuant to section 10(d) of Public Law 92-463.

Purpose: This group is charged with providing advice and guidance to the Secretary, Department of Health and Human Services, and the Director, CDC, concerning the scientific and technical merit of grant and cooperative agreement applications received from academic institutions and other public and private profit and nonprofit organizations, including State and local government agencies, to conduct specific injury research that focuses on prevention and control.

Matters To Be Discussed: The meeting will include the review, discussion, and evaluation of applications submitted in response to Fiscal Year 2009 Requests for Applications related to the following individual research announcement: RFA-EH-09-001 Climate Change: Environmental Impact on Human Health (U01).

Agenda items are subject to change as priorities dictate.

Contact Person for More Information: Rick Waxweiler, PhD, Director, Extramural Research Program Office, National Center for Injury Prevention & Control and Executive Secretary, NCIPC IRG, CDC, 4770 Buford Highway, NE., M/S F-62, Atlanta, Georgia 30341, Telephone 770-488-4850.

The Director, Management Analysis and Services Office has been delegated the authority to sign Federal Register notices pertaining to announcements of meetings and other committee management activities for both CDC and the Agency for Toxic Substances and Disease Registry.

Dated: May 13, 2009.
Elaine L. Baker,
Director, Management Analysis and Services Office, Centers for Disease Control and Prevention.

[FR Doc. E9-11600 Filed 5-18-09; 8:45 am]

BILLING CODE 4163-18-P